DEPARTMENT OF JUSTICE

Antitrust Division

Notice Pursuant to the National Cooperative Research and Production Act of 1993—Marinenet, LLC

Notice is hereby given that, on January 13, 2011, pursuant to Section 6(a) of the National Cooperative Research and Production Act of 1993, 15 U.S.C. 4301 et seq. (“the Act”), MarineNet, LLC (“MarineNet”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ACL Transportation Services LLC, Jeffersonville, IN; Ingram Barge Company, Nashville, TN; and AEP River Operations LLC, Chesterfield, MO. The general area of MarineNet's planned activity is researching, evaluating, testing and developing a process or service to establish and support a platform for the electronic transfer of data between contracting river industry trading partners (the “value added network” or “VAN”). The VAN will provide for the ability to electronically transmit order, status, and invoice information between contracting river trading partners internal systems, promoting efficiency within the river industry.

Patricia A. Brink,
Director of Civil Enforcement, Antitrust Division.

[FR Doc. 2011-3854 Filed 2-18-11; 8:45 am]

BILLING CODE 4410-11-M